DEPARTMENT OF ENERGY

Federal Energy Regulatory Commission

[Project Nos. 2593-000; 2823-000]

Algonquin Power (Beaver Falls), LLC; Notice of Authorization for Continued Project Operation

On December 30, 2015, Algonquin Power (Beaver Falls), LLC, licensee for the Upper Beaver Falls Hydroelectric Project No. 2593 and the Lower Beaver Falls Hydroelectric Project No. 2823, filed a joint application for subsequent license ¹ pursuant to the Federal Power Act (FPA) and the Commission's regulations thereunder. Both projects are located on the Beaver River in the towns of Croghan and New Bremen in Lewis County, New York.

¹ The Commission issued a minor license for the Upper Beaver Falls Project on April 19, 1985 (expiring December 31, 2017), and for the Lower Beaver Falls Project on October 18, 1979 (expiring September 30, 2019). On June 8, 2012, the licensee requested to accelerate expiration of the Lower Beaver Falls Project license term to December 31, 2017, in order to coordinate relicensing proceedings for both projects, which the Commission granted on October 10, 2012. In its December 30, 2015, license application, Algonquin Power (Beaver Falls), LLC proposes to combine both minor projects into a single, major project under 5 megawatts. However, the current licenses for both projects are minor licenses where the applicability of section 15 of the FPA was waived.

The license terms for Project Nos. 2593 and 2823 ended on December 31, 2017. Section 15(a)(1) of the FPA, 16 U.S.C. 808(a)(1), requires the Commission, at the expiration of a license term, to issue from year-to-year an annual license to the then licensee under the terms and conditions of the prior license until a new license is issued, or the project is otherwise disposed of as provided in section 15 or any other applicable section of the FPA. If the project's prior license waived the applicability of section 15 of the FPA, then, based on section 9(b) of the Administrative Procedure Act, 5 U.S.C. 558(c), and as set forth at 18 CFR 16.21(a), if the licensee of such project has filed an application for a subsequent license, the licensee may continue to operate the project in accordance with the terms and conditions of the license after the minor or minor part license expires, until the Commission acts on its application. If the licensee of such a project has not filed an application for a subsequent license, then it may be required, pursuant to 18 CFR 16.21(b), to continue project operations until the Commission issues someone else a license for the project or otherwise orders disposition of the project.

If the project is subject to section 15 of the FPA, notice is hereby given that an annual license for Project No. 2593 is issued to the licensee for a period effective January 1, 2018 through December 31, 2018 or until the issuance of a new license for the project or other disposition under the FPA, whichever comes first. If issuance of a new license (or other disposition) does not take place on or before December 31, 2018, notice is hereby given that, pursuant to 18 CFR 16.18(c), an annual license under section 15(a)(1) of the FPA is renewed automatically without further order or notice by the Commission, unless the Commission orders otherwise.

If the projects are not subject to section 15 of the FPA, notice is hereby given that the licensee, Algonquin Power (Beaver Falls), LLC, is authorized to continue operation of the Upper Beaver Falls and Lower Beaver Falls Hydroelectric Projects, until such time as the Commission acts on its license application.

Dated: January 11, 2018.
Kimberly D. Bose,
Secretary.

[FR Doc. 2018-00751 Filed 1-17-18; 8:45 am]

BILLING CODE 6717-01-P